DEPARTMENT OF HEALTH AND HUMAN SERVICES

Administration for Children and Families

Proposed Information Collection Activity; Comment Request

Prposed Projects

Title: Evaluation of the Head Start Oral Health Initiative.

OMB No.: New collection.

Description: The purpose of this evaluation is to examine the implementation of the Head Start Oral Health Initiative (OHI). The Office of Head Start has funded 52 programs for OHI to improve the oral-health services to young children, from birth to five, and pregnant women. The funded programs will develop, implement, and disseminate culturally sensitive, innovative, and empirically based best practices for oral health in Head Start. The evaluation will examine information on approaches taken by the 52 individual programs and the implementation of the approaches, including challenges faced, as well as facilitating factors, and create a uniform method for collecting administrative information across all sites.

Respondents: Head Start directors, staff, and teachers who are implementing OHI; community organizations that have partnered with Head Start programs implementing OHI; and parents or guardians of children who attend Head Start programs where OHI is being implemented.

Annual Burden Estimates:

Instrument | Number of respondents | Number of responses per respondent | Average burden hours per response | Total burden hours
Head Start Directors: Telephone Interview | 52 | 1 | 1.5 | 78
Head Start Staff: Program Recordkeeping System | 52 | 184 | 1.08 | 10,333
Head Start Directors: Site Visit Interview | 16 | 1 | 1.5 | 24
Head Start Staff: Site Visit Interview | 48 | 1 | 1.5 | 72
Head Start Community Partner: Interview | 80 | 1 | 1 | 80
Head Start Parent: Focus Group | 160 | 1 | 1.5 | 240
Parents/Guardians: Focus Group | 192 | 1 | 2 | 384

Estimated Total Annual Burden Hours: 11,211.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 27, 2006.
Robert Sargis,
Reports Clearance Officer.

[FR Doc. 06-5978 Filed 7-3-06; 8:45 am]

BILLING CODE 4184-01-M